DEPARTMENT OF TRANSPORTATION

Federal Transit Administration

[FTA Docket No. FTA-2013-0017]

Agency Information Collection Activity Under OMB Review

AGENCY: Federal Transit Administration, DOT.

ACTION: Notice of request for comments.

SUMMARY: The Federal Transit Administration invites public comment about our intention to request the Office of Management and Budget's (OMB) approval of the following new information collections:

49 U.S.C. Section 5337—State of Good Repair Program

49 U.S.C. Section 5339—Bus and Bus Facilities Program

The information collected is necessary to determine eligibility of applicants and ensure the proper and timely expenditure of federal funds within the scope of each program. The Federal Register notice with a 60-day comment period soliciting comments was published on December 12, 2012 (Citation 77 FR 74050). No comments were received from that notice.

DATES: Comments must be submitted before April 24, 2013. A comment to OMB is most effective if OMB receives it within 30 days of publication.

FOR FURTHER INFORMATION CONTACT: Sylvia L. Marion, Office of Administration, Office of Management Planning, (202) 366-6680.

SUPPLEMENTARY INFORMATION: Title: 49 U.S.C. Section 5337—State of Good Repair Program.

Abstract: 49 U.S.C. 5337, the State of Good Repair Grants Program, is a new program authorized by Moving Ahead for Progress in the 21st Century (MAP-21). The State of Good Repair Grants Program replaces the SAFETEA-LU Fixed Guideway Modernization Program. This program authorizes the Secretary of Transportation to make grants to designated recipients to replace and rehabilitate high intensity fixed guideway systems and high intensity motorbus systems. Eligible recipients include state and local government authorities in urbanized areas with high intensity fixed guideway systems and/or high intensity motorbus systems operating for at least seven years. Projects are funded at 80 percent federal with a 20 percent local match requirement by statute. FTA will apportion funds to designated recipients. The designated recipients will then allocate funds as appropriate to recipients that are public entities in the urbanized areas. FTA can make grants to direct recipients after sub-allocation of funds. Recipients apply for grants electronically, and FTA collects milestone and financial status reports from designated recipients on a quarterly basis. The information submitted ensures FTA's compliance with applicable federal laws.

Title: 49 U.S.C. Section 5339—Bus and Bus Facilities Program.

Abstract: 49 U.S.C. 5339—Bus and Bus Facilities Formula Program, is a new program authorized by Moving Ahead for Progress in the 21st Century (MAP-21). This program authorizes the Secretary of Transportation to make grants to designated recipients and states to replace, rehabilitate, and purchase buses and related equipment as well as construct bus-related facilities. Eligible sub-recipients include public agencies or private nonprofit organizations engaged in public transportation, including those providing services open to a segment of the general public, as defined by age, disability, or low income. Projects are funded at 80 percent federal with a 20 percent local match requirement by statute. Recipients apply for grants electronically and FTA collects milestone and financial status reports from designated recipients and states on a quarterly basis. The information submitted ensures FTA's compliance with applicable federal laws.

ADDRESSES: All written comments must refer to the docket number that appears at the top of this document and be submitted to the Office of Information and Regulatory Affairs, Office of Management and Budget, 725 17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: March 18, 2013.
Matthew M. Crouch,
Deputy Administrator for Administration.

[FR Doc. 2013-06728 Filed 3-22-13; 8:45 am]

BILLING CODE P